DEPARTMENT OF THE INTERIOR

Bureau of Reclamation

Proposed Water Service Contract, El Dorado County Water Agency, El Dorado County, CA

AGENCY: Bureau of Reclamation, Interior.

ACTION: Notice of availability of the Draft Environmental Impact Statement/Environmental Impact Report (EIS/EIR).

SUMMARY: Pursuant to the National Environmental Policy Act and the California Environmental Quality Act, the Bureau of Reclamation (Reclamation) and the El Dorado County Water Agency (EDCWA) as lead agencies have made available for public review and comment a joint Draft EIS/EIR for a Proposed Water Service Contract pursuant to Public Law 101-514. The Draft EIS/EIR describes and presents the environmental effects of four alternatives, including no action, of entering into a long-term Central Valley Project (CVP) water service contract with EDCWA.

DATES: Two public meetings have been scheduled to receive oral or written comments regarding environmental effects:

• Tuesday, September 15, 2009, 6 p.m. to 8 p.m. in Folsom, CA.

• Wednesday, September 16, 2009, 6 p.m. to 8 p.m. in El Dorado Hills, CA.

Written comments on the Draft EIS/EIR will be accepted on or before October 16, 2009.

ADDRESSES: The public meetings will be held at:

• City of Folsom Community Center, 52 Natoma Street, Folsom, California.

• El Dorado Hills Fire Department, 1050 Wilson Way, El Dorado Hills, California.

Send written comments on the Draft EIS/EIR to Ms. Elizabeth Dyer, Bureau of Reclamation, 7794 Folsom Dam Road, Folsom, California 95630. Copies of the Draft EIS/EIR may be requested from Ms. Dyer at the above address, or by calling 916-989-7256. See SUPPLEMENTARY INFORMATION section for locations where copies of the Draft EIS/EIR are available for public inspection. The Draft EIR/EIS is also available from the following Web site: http://www.usbr.gov/mp/nepa/nepa_projdetails.cfm?Project_ID=26.

FOR FURTHER INFORMATION CONTACT: Elizabeth Dyer, Natural Resources Specialist, Reclamation, at 916-989-7256, elizabethdyer@usbr.gov; or Tracey Eden-Bishop, Water Resources Engineer, El Dorado County Water Agency, 530-621-5392, tracey.eden-bishop@edcgov.us.

SUPPLEMENTARY INFORMATION: The focus of the Draft EIS/EIR is to evaluate the potential environmental and socio-economic impacts of the new CVP water service contract authorized under Public Law 101-514. The Draft EIS/EIR combines the programmatic and project-level analysis of the potential effects. At the project-level, the potential hydrologic changes to the American River basin and the CVP/State Water Project including the Sacramento-San Joaquin River Delta are evaluated. At the programmatic level, the potential long-term effects and indirect effects of this new water contract within the context of existing policies, infrastructure, public services, and population demographics as supported by the El Dorado County General Plan and EIR are evaluated. Since no new facilities or infrastructure are part of this new CVP water contracting action, no direct impacts of this new water contract are included in the analysis. Copies of the Draft EIS/EIR are available for public review at the following locations:

• Bureau of Reclamation, Denver Office Library, Building 67, Room 167, Denver Federal Center, 6th and Kipling, Denver, CO 80225; telephone: 303-445-2072.

• Bureau of Reclamation, Office of Public Affairs, 2800 Cottage Way, Sacramento, CA 95825-1898; telephone: 916-978-5100.

• Natural Resources Library, U.S. Department of the Interior, 1849 C Street NW., Main Interior Building, Washington, DC 20240-0001.

• Bureau of Reclamation, Central California Area Office, 7794 Folsom Dam Road, Folsom, CA 95630.

• El Dorado County Water Agency, 3932 Ponderosa Road Suite 200, Shingle Springs, CA 95682.

Before including your name, address, phone number, e-mail address, or other personal identifying information in your comment, you should be aware that your entire comment—including your personal identifying information—may be made publicly available at any time. While you can ask us in your comment to withhold your personal identifying information from public review, we cannot guarantee that we will be able to do so.

Dated: May 15, 2009.
Donald R. Glaser,
Regional Director, Mid-Pacific Region.

[FR Doc. E9-19714 Filed 8-14-09; 8:45 am]

BILLING CODE 4310-MN-P